NUCLEAR REGULATORY COMMISSION

[Docket No. 50-133]

Environmental Assessment and Finding of No Significant Impact Related to Issuance of Technical Specification Amendment for the Humboldt Bay Power Plant Unit 3 License DPR-007, Humboldt, CA

AGENCY: U.S. Nuclear Regulatory Commission.

ACTION: Environmental assessment and finding of no significant impact.

FOR FURTHER INFORMATION CONTACT: John Hickman, Division of Waste Management and Environmental Protection, Office of Nuclear Material Safety and Safeguards, U.S. Nuclear Regulatory Commission, Mail Stop: T7E18, Washington, DC 20555-00001. Telephone: (301) 415-3017; e-mail: jbh@nrc.gov.

SUPPLEMENTARY INFORMATION:

I. Introduction

The U.S. Nuclear Regulatory Commission (NRC) staff is considering a request dated January 19, 2006, by the Pacific Gas and Electric Company (PGE or the Licensee), to approve an amendment to Facility Operating License No. DPR-7 that would revise Technical Specification (TS) 3.1.2 to correct an editorial error, and TS 5.2.2 to allow leaving the Unit 3 control room temporarily unmanned during emergency conditions requiring personnel to evacuate occupied buildings for their safety.

II. Environmental Assessment

Background

Humboldt Bay Power Plant (HBPP) was permanently shut down in July 1976, and until recently was in safe storage condition (SAFSTOR). SAFSTOR is defined as a method of decommissioning in which the nuclear facility is placed and maintained in safe condition for an extended period of time to permit radioactive material to decay to levels that ease subsequent decontamination and decommissioning of the facility. A Decommissioning Plan was approved in July 1988. Subsequent to the 1996 decommissioning rule, the licensee converted its decommissioning plan into its Defueled Safety Analysis Report which is updated every two years. A Post Shutdown Decommissioning Activities Report was issued by the licensee in February 1998. The licensee is now engaged in some incremental decommissioning activities. In December 2003, PG&E formally submitted a license application to the NRC for approval of a dry-cask Independent Spent Fuel Storage Installation (ISFSI) at the Humboldt Bay site. A license and safety evaluation report for the Humboldt Bay ISFSI were issued on November 17, 2005. PG&E should begin active decommissioning of the facility in 2007.

On June 14, 2005, a magnitude 7.2 earthquake occurred 97 miles WNW of the Humboldt Bay site and was felt onsite. Subsequently a tsunami warning was issued for an area that included the plant site. In accordance with plant emergency procedures, site personnel evacuated the facility to the high ground evacuation site within the owner controlled area of the site. Since TS 5.2.2.c requires continuous staffing of the Unit 3 control room, or alternatively of the Units 1 and 2 control station, this necessitated that the licensee invoke the provisions of 10 CFR 50.54(x) for noncompliance with the TS. Based on this experience, and that the site will continue to be subject to potential earthquakes and tsunamis, the licensee requested the change to the TS to allow temporarily not manning the Unit 3 control room, or the Units 1 or 2 control station, when necessary to protect worker health and safety.

This Environmental Assessment (EA) has been developed in accordance with the requirements of 10 CFR 51.21.

Proposed Action

The change proposed by this LAR will modify TS 3.1.2, Limiting Condition for Operation (LCO) 3.1.2, Condition A to replace the word “restriction” with the word “weight” so that action is required if the load weight, rather than the load restriction, is not within the limit. The change will also modify TS 5.2.2.c to allow the Unit 3 control room, and the associated control station in Units 1 and 2, to be temporarily unmanned in an emergency when personnel are required to evacuate occupied buildings for their health and safety. The proposed action is in accordance with the licensee's application dated January 19, 2006, requesting approval.

Need for Proposed Action

The proposed change to TS 3.1.2 will clarify the LCO and is needed to ensure that the appropriate limit is maintained. The proposed change to TS 5.2.2.c to allow the Unit 3 control room, and the associated control station in Units 1 and 2, to be temporarily unmanned in an emergency requiring evacuation is needed to protect personnel health and safety.

Environmental Impacts of the Proposed Action

The NRC has completed its evaluation of the proposed amendments to the Technical Specifications and concludes the changes would have no significant impacts to the environment.

The NRC evaluated the safety impacts of the proposed changes and determined that the changes proposed by this license amendment request, to clarify an existing requirement and allow the licensee evacuate the control room in an emergency that requires site evacuation for the protection of site staff health and safety, will better ensure that a safety limit is maintained and will not hinder the licensee's response to an emergency.

Allowing the control room operators to evacuate the control room during an emergency will not create a situation where response will be delayed or less effective due to the absence of the monitoring and coordination provided by the control room operators, because the plant operators who perform the recovery actions will also be evacuated in a life threatening emergency, thereby removing the staff that the control room operators would direct in the emergency. Additionally, the possible loss of the control room operator in an emergency would further delay the site recovery when the emergency condition has passed. Therefore, for the hazardous conditions considered, the proposed action would best insure that the personnel required for recovery are available when the recovery can be performed. Based on the above, the proposed action would not increase the probability or consequences of accidents, would not change the types of effluents that may be released offsite, and would not increase occupation or public radiation exposure.

Since the amendment only affects actions in the industrial portion of the facility, the proposed action does not have a potential to affect any historic sites.

Alternatives to the Proposed Action

The alternative to the proposed action would be to deny the request. Denial of this amendment request would have the same environmental impact as the proposed action.

Agencies and Persons Consulted

This EA was prepared by John B. Hickman, Project Manager, Decommissioning Directorate, Division of Waste Management and Environmental Protection (DWMEP). NRC staff determined that the proposed action is not a major decommissioning activity and will not affect listed or proposed endangered species, nor critical habitat. Therefore, no further consultation is required under Section 7 of the Endangered Species Act. Likewise, NRC staff determined that the proposed action is not the type of activity that has the potential to cause previously unconsidered effects on historic properties, as consultation for site decommissioning has been conducted previously. There are no additional impacts to historic properties associated with the disposal method and location for demolition debris. Therefore, no consultation is required under Section 106 of the National Historic Preservation Act. The NRC provided a draft of its EA to the Radiologic Health Branch of the California State Department of Health Services. The state official had no comments.

III. Finding of No Significant Impact

On the basis of the environmental assessment, the NRC concludes that the proposed action will not have a significant effect on the quality of the human environment. Accordingly, the NRC has determined not to prepare an environmental impact statement for the proposed action.

IV. Further Information

For further details with respect to the proposed action, see the licensee's letter dated January 19, 2006. (ADAMS Accession No. ML060310499) The NRC Public Documents Room is located at NRC Headquarters in Rockville, MD, and can be contacted at (800) 397-4209. Documents may be examined, and/or copied for a fee, at the NRC's Public Document Room (PDR), located at One White Flint North, 11555 Rockville Pike (first floor), Rockville, Maryland. Publicly available records will be accessible electronically from the Agencywide Documents Access and Management System's (ADAMS) Public Library component on the NRC Web site, http://www.nrc.gov (the Public Electronic Reading Room). Persons who do not have access to ADAMS or who encounter problems in accessing the documents located in ADAMS should contact the NRC PDR Reference staff by telephone at 1-800-397-4209, or 301-415-4737, or by e-mail at pdr@nrc.gov.

Dated at Rockville, Maryland, this 22nd day of June, 2006.
For the Nuclear Regulatory Commission.
Keith I. McConnell,
Deputy Director, Decommissioning Directorate, Division of Waste Management and Environmental Protection, Office of Nuclear Material Safety and Safeguards.

[FR Doc. E6-10354 Filed 6-30-06; 8:45 am]

BILLING CODE 7590-01-P